DEPARTMENT OF COMMERCE

National Oceanic and Atmospheric Administration

RIN 0648-XF503

Mid-Atlantic Fishery Management Council (MAFMC); Public Meeting

AGENCY: National Marine Fisheries Service (NMFS), National Oceanic and Atmospheric Administration (NOAA), Commerce.

ACTION: Notice; public meeting.

SUMMARY: The Science and Statistical Committee (SSC) of the Mid-Atlantic Fishery Management Council's (Council) will hold a meeting.

DATES: The meeting will be held on Wednesday and Thursday, July 19-20, 2017, beginning at 1 p.m. on July 19 and concluding by 12:30 p.m. on July 20. See SUPPLEMENTARY INFORMATION for agenda details.

ADDRESSES: The meeting will take place at the Royal Sonesta Harbor Court Baltimore, 550 Light Street, Baltimore, MD 21202; telephone: (410) 234-0550.

Council address: Mid-Atlantic Fishery Management Council, 800 N. State Street, Suite 201, Dover, DE 19901; telephone: (302) 674-2331; Web site: www.mafmc.org.

FOR FURTHER INFORMATION CONTACT: Christopher M. Moore, Ph.D., Executive Director, Mid-Atlantic Fishery Management Council, telephone: (302) 526-5255.

SUPPLEMENTARY INFORMATION: The purpose of this meeting is to make multi-year (2018-19) ABC recommendations for scup based on updated stock assessment information. The SSC will also review the currently implemented 2018 ABCs for summer flounder, black sea bass and bluefish based on the most recent fishery and survey data for each of these species. In addition, topics to be discussed include a discussion on the potential development of chub mackerel reference points, a review of the current generic Terms of Reference used for setting specifications and an SSC OFL Working Group progress report.

A detailed agenda and background documents will be made available on the Council's Web site (www.mafmc.org) prior to the meeting.

Special Accommodations

These meetings are physically accessible to people with disabilities. Requests for sign language interpretation or other auxiliary aid should be directed to M. Jan Saunders, (302) 526-5251, at least 5 days prior to the meeting date.

Dated: June 23, 2017.
Jeffrey N. Lonergan,
Acting Deputy Director, Office of Sustainable Fisheries, National Marine Fisheries Service.

[FR Doc. 2017-13621 Filed 6-28-17; 8:45 am]

BILLING CODE 3510-22-P